DEPARTMENT OF COMMERCE

International Trade Administration

[A-580-885]

Phosphor Copper From the Republic of Korea: Notice of Rescission of Antidumping Duty Administrative Review

AGENCY: Enforcement and Compliance, International Trade Administration, Department of Commerce.

SUMMARY: The Department of Commerce (Commerce) is rescinding the administrative review of the antidumping duty order on phosphor copper from the Republic of Korea (Korea) for the period of review (POR) April 1, 2018, through March 31, 2019.

DATES: Applicable August 12, 2019.

FOR FURTHER INFORMATION CONTACT: Cindy Robinson AD/CVD Operations, Office III, Enforcement and Compliance, International Trade Administration, U.S. Department of Commerce, 1401 Constitution Avenue NW, Washington, DC 20230; telephone: (202) 482-3797.

SUPPLEMENTARY INFORMATION:

Background

On April 1, 2019, Commerce published a notice of opportunity to request an administrative review of the antidumping duty order ¹ on phosphor copper from the Republic of Korea.² On April 26 and 30, 2019, Commerce received timely requests from Metallurgical Products Company (Metallurgical or the petitioner) and Bongsan Co., Ltd. (Bongsan) in accordance with section 751(a) of the Tariff Act of 1930, as amended (the Act), and 19 CFR 351.213(b), to conduct an administrative review of this antidumping duty order with respect to Bongsan.³

¹ See Phosphor Copper from the Republic of Korea: Antidumping Duty Order, 82 FR 18893 (April 24, 2017).

² See Antidumping or Countervailing Duty Order, Finding, or Suspended Investigation; Opportunity to Request Administrative Review, 84 FR 12207 (April 1, 2019).

³ See Petitioner's Letter, “Phosphor Copper from the Republic of Korea: Request for Administrative Review,” dated April 26, 2019; see also Bongsan's Letter, “Phosphor Copper from the Republic of Korea—Request for Administrative Review,” dated April 30, 2019.

On June 13, 2019, Commerce published in the Federal Register the notice of initiation of this antidumping duty administrative review with respect to Bongsan.⁴ On July 23 and 24, 2019, Bongsan and the petitioner, respectively, timely withdrew their requests for administrative review of the antidumping duty order with respect to Bongsan.⁵

⁴ See Initiation of Antidumping or Countervailing Administrative Reviews, 84 FR 27587 (June 13, 2019) (Initiation Notice).

⁵ See Petitioner's Letter, “Phosphor Copper from the Republic of Korea: Request to Withdraw Administrative Review,” dated July 24, 2019 (Petitioner's Withdrawal Request); see also Bongsan's Letter, “Phosphor Copper from the Republic of Korea—Withdrawal of Request for Administrative Review,” dated July 23, 2019 (Bongsan's Withdrawal Request).

Rescission of the 2018-2019 Administrative Review

Pursuant to 19 CFR 351.213(d)(1), Commerce will rescind an administrative review, in whole or in part, if the parties that requested a review withdraw the request within 90 days of the date of publication of the notice of initiation of the requested review. The instant review was initiated on June 13, 2019. Bongsan withdrew its request for review on July 23, 2019, and the petitioner withdrew its request for a review on July 24, 2019, which is within the 90-day deadline. No other party requested an administrative review of this order. Therefore, in accordance with 19 CFR 351.213(d)(1), we are rescinding this review of the antidumping duty order on phosphor copper from the Republic of Korea in its entirety.

Assessment

Commerce will instruct U.S. Customs and Border Protection (CBP) to assess antidumping duties on all appropriate entries of phosphor copper from Korea. Antidumping duties shall be assessed at rates equal to the cash deposit of estimated antidumping duties required at the time of entry, or withdrawal from warehouse, for consumption, in accordance with 19 CFR 351.212(c)(1)(i). Commerce intends to issue appropriate assessment instructions to CBP 15 days after the date of publication of this notice of rescission of administrative review in the Federal Register.

Notification to Importers

This notice also serves as a final reminder to importers for whom this review is being rescinded of their responsibility under 19 CFR 351.402(f)(2) to file a certificate regarding the reimbursement of antidumping duties prior to liquidation of the relevant entries during this review period. Failure to comply with this requirement could result in Commerce's presumption that reimbursement of the antidumping duties occurred and the subsequent assessment of double antidumping duties.

Notification Regarding Administrative Protective Order

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Act, and 19 CFR 351.213(d)(4).

Dated: August 6, 2019.
James Maeder,
Deputy Assistant Secretary for Antidumping and Countervailing Duty Operations.

[FR Doc. 2019-17195 Filed 8-9-19; 8:45 am]

BILLING CODE 3510-DS-P